DEPARTMENT OF THE INTERIOR

Outer Continental Shelf (OCS) Scientific Committee—Notice of Renewal

AGENCY: Minerals Management Service (MMS), Interior.

ACTION: Notice of renewal of the Outer Continental Shelf Scientific Committee.

SUMMARY: Following consultation with the General Services Administration, notice is hereby given that the Secretary of the Interior is renewing the OCS Scientific Committee.

The OCS Scientific Committee provides advice on the feasibility, appropriateness, and scientific value of the OCS Environmental Studies Program to the Secretary of the Interior through the Director of the Minerals Management Service. The Committee reviews the relevance of the research and data being produced to meet MMS scientific information needs for decisionmaking and may recommend changes in scope, direction, and emphasis.

FOR FURTHER INFORMATION CONTACT: Ms. Jeryne Bryant, Minerals Management Service, Offshore Energy and Minerals Management, Herndon, Virginia 20170-4817, telephone, (703) 787-1213.

Certification

I hereby certify that the renewal of the OCS Scientific Committee is in the public interest in connection with the performance of duties imposed on the Department of the Interior by 43 U.S.C. 1331 et seq.

Dated: March 3, 2010.
Ken Salazar,
Secretary of the Interior.

[FR Doc. 2010-4976 Filed 3-8-10; 8:45 am]

BILLING CODE 4310-MR-P